DEPARTMENT OF AGRICULTURE

Submission for OMB Review; Comment Request; Reinstatement

The Department of Agriculture will submit the following information collection requirement(s) to OMB for review and reinstatement under the Paperwork Reduction Act of 1995, Public Law 104-13 on or after the date of publication of this notice. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by April 10, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Livestock Mandatory Reporting Act of 1999.

OMB Control Number: 0581-0186.

Summary of Collection: The Livestock Mandatory Reporting Act of 1999 (1999 Act) authorizes the collection and reporting of information on the prices and quantities of livestock and livestock products. In 2001, the U.S. Department of Agriculture (USDA) Agricultural Marketing Service (AMS) implemented the Livestock Mandatory Reporting (LMR) program as required by the 1999 Act [Pub. L. 106-78; 113 Stat. 1188; 7 U.S.C. 1635-1636(i)]. On September 30, 2015, the Agriculture Reauthorizations Act of 2015 (2015 Reauthorization Act) reauthorized LMR for an additional five years, until September 30, 2020. The Reauthorization was extended through September 30, 2021, in the Consolidated Appropriations Act of 2021 and currently extended through September 30, 2022, in the Consolidated Appropriations Act of 2022.

The request for information, as mandated by the 1999 Act and amended under the 2015 Reauthorization Act, requires livestock packing plants that annually slaughter an average of 125,000 cattle, 100,000 barrows and gilts, or 200,000 sows and boars; or slaughter or process an average of 35,000 lambs to report information as described in the 1999 Act. In addition, the 1999 Act, as amended under the 2015 Reauthorization Act, requires importers that annually import an average of 1,000 metric tons of lamb meat products to report information as described in the 1999 Act.

Need and Use of the Information: The information collection and recordkeeping requirements mandated by the 1999 Act are essential for AMS to administer a mandatory reporting program of livestock and livestock products. Using the information submitted by packers and importers, AMS publishes over 100 daily, weekly, and monthly reports covering market transactions for fed cattle, swine, lamb, beef, lamb meat, and pork. Collection is accomplished through electronic means, and AMS reports the information up to three times daily and once weekly. The information collected in order for AMS to meet the requirements and intentions of the 1999 Act is only available from the entities required to report.

Description of Respondents: Business or other for-profit.

Number of Respondents: 110.

Frequency of Responses: Reporting; Weekly; Other (Daily).

Total Burden Hours: 23,035.

Agricultural Marketing Service

Title: Pecans Grown in Multiple States, Marketing Order No. 986.

OMB Control Number: 0581-0291.

Summary of Collection: The marketing order regulates the handling of pecans grown in Alabama, Arkansas, Arizona, California, Florida, Georgia, Kansas, Louisiana, Missouri, Mississippi, North Carolina, New Mexico, Oklahoma, South Carolina, and Texas and is authorized by the Agricultural Marketing Agreement Act of 1937 (Act), Secs. 1-19, 48 Stat. 31, as amended; 7 U.S.C. 601-674. The Act permits regulation of certain agricultural commodities for the purpose of providing orderly marketing conditions in interstate commerce and to improve returns to growers. Section 608(d)(1) of the Act provides the Department of Agriculture (USDA) with the authority to request from the regulated handlers such information as is deemed necessary to determine the extent to which a marketing order has effectuated the declared policy of the Act.

Need and Use of the Information: Collection of this information enables the Council to calculate assessments owed by each handler. Gaining the authority to collect nationwide data on pecan inventories, shipments and foreign deliveries and acquisitions was the primary reason the U.S. pecan industry approached AMS for a Federal marketing order.

Description of Respondents: Businesses or other for-profits.

Number of Respondents: 4,512.

Frequency of Responses: Reporting: On occasion.

Total Burden Hours: 1,587.

Levi S. Harrell,
Departmental Information Collection Clearance Officer.

[FR Doc. 2023-04827 Filed 3-8-23; 8:45 am]

BILLING CODE 3410-02-P